FEDERAL COMMUNICATIONS COMMISSION

47 CFR Part 73

[DA 24-1080; MB Docket No. 24-193; RM-11986; FR ID 256360]

Radio Broadcasting Services; Huntley, Montana

AGENCY: Federal Communications Commission.

ACTION: Final rule.

SUMMARY: This document amends the Table of FM Allotments, of the Federal Communications Commission's (Commission) rules, by allotting Channel 284A at Huntley, Montana, as the community's first local service. To accommodate the allotment, we modify the license of KYSX, Billings, Montana to specify operation on Channel 286A in lieu of Channel 283C1. A staff engineering analysis reveals that Channel 284A can be allotted to Huntley, Montana, consistent with the minimum distance separation requirements of the Commission's rules with a site restriction of 13.9 km (8.6 miles) north of the community.

DATES: Effective December 2, 2024.

FOR FURTHER INFORMATION CONTACT: Rolanda F. Smith, Media Bureau, (202) 418-2054, Rolanda-Faye.Smith@fcc.gov.

SUPPLEMENTARY INFORMATION: This is a synopsis of the Commission's Report and Order, MB Docket No. 24-193, adopted October 17, 2024, and released October 17, 2024. The full text of this Commission decision is available online at https://apps.fcc.gov/ecfs/. The full text of this document can also be downloaded in Word or Portable Document Format (PDF) at https://www.fcc.gov/edocs. This document does not contain information collection requirements subject to the Paperwork Reduction Act of 1995, Public Law 104-13.

The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, in paragraph (b), amend the Table of FM Allotments under Montana, by adding in alphabetical order an entry for “Huntley” to read as follows:

§ 73.202 Table of Allotments.

* * * * *

(b) Table of FM Allotments.

Table 1 to Paragraph (b)
U.S. States | Channel No.
Texas
* * * * *
Huntley | 284A
* * * * *

* * * * *

[FR Doc. 2024-25345 Filed 10-30-24; 8:45 am]

BILLING CODE 6712-01-P